DEPARTMENT OF STATE

[Public Notice: 10586]

Cultural Property Advisory Committee; Notice of Meeting

ACTION: Notice of closed meeting.

Pursuant to the Convention on Cultural Property Implementation Act (19 U.S.C. 2601 et seq.) (“the Act”), the Assistant Secretary of State for Educational and Cultural Affairs calls a meeting of the Cultural Property Advisory Committee (“the Committee”) on November 6, 2018. This meeting will be closed to the public pursuant to 5 U.S.C. 552b(c)(9)(B) and 19 U.S.C. 2605.

Meeting Agenda: The Committee will undertake a continuing review of the effectiveness of cultural property agreements and emergency actions currently in force.

FOR FURTHER INFORMATION CONTACT: For general questions concerning the meeting, contact Andrew Cohen, Bureau of Educational and Cultural Affairs—Cultural Heritage Center by phone, (202) 632-6301, or email, culprop@state.gov.

Marie Therese Porter Royce,
Assistant Secretary, Bureau of Educational and Cultural Affairs, Department of State.

[FR Doc. 2018-22641 Filed 10-16-18; 8:45 am]

BILLING CODE 4710-05-P